DEPARTMENT OF DEFENSE

Office of the Secretary

Defense Science Board

AGENCY: Department of Defense.

ACTION: Notice of advisory committee meeting cancellation.

SUMMARY: As previously advertised in the Federal Register on March 13, 2002 (67 FR 11293), the Defense Science Board Task Force on Discriminant Use of Force meeting scheduled for June 18-19, 2002, is cancelled.

Dated: June 6, 2002.
Patricia L. Toppings,
Alternate OSD Federal Register Liaison Officer, Department of Defense.

[FR Doc. 02-14851 Filed 6-12-02; 8:45 am]

BILLING CODE 5001-10-M